DEPARTMENT OF LABOR

Employee Benefits Security Administration

Proposed Extension of Information Collection Comment Request; ERISA Summary Annual Report

AGENCY: Employee Benefits Security Administration, Department of Labor.

ACTION: Notice.

SUMMARY: The Department of Labor (the Department), as part of its continuing effort to reduce paperwork and respondent burden, conducts a pre-clearance consultation program to provide the general public and Federal agencies with an opportunity to comment on proposed and continuing collections of information in accordance with the Paperwork Reduction Act of 1995 (PRA 95). This program helps to ensure that the data the Department gathers can be provided in the desired format, the reporting burden (time and financial resources) is minimized, the public clearly understands the Department's collection instruments, and the Department can accurately assess the impact of collection requirements on respondents. Currently, the Employee Benefits Security Administration (EBSA) is soliciting comments concerning an extension of the information collections in the regulation implementing the requirement under the Employee Retirement Income Security Act of 1974 (ERISA) that administrators of employee benefit plans annually furnish participants and certain beneficiaries a statement that fairly summarizes the plan's latest annual report. A copy of the information collection request (ICR) may be obtained by contacting the office listed in the ADDRESSES section of this notice.

DATES: Written comments must be submitted to the office shown in the ADDRESSES section on or before May 26, 2009.

ADDRESSES: Direct all written comments regarding the information collection request and burden estimates to G. Christopher Cosby, Office of Policy and Research, Employee Benefits Security Administration, U.S. Department of Labor, 200 Constitution Avenue, NW., Room N-5718, Washington, DC 20210. Telephone: (202) 693-8410, FAX (202) 219-4333. These are not toll-free numbers. Comments may also be submitted electronically to the following Internet e-mail address: ebsa.opr@dol.gov.

SUPPLEMENTARY INFORMATION:

I. Background

Section 104(b)(3) of ERISA and the regulation published at 29 CFR 2520.104b-10 require, with certain exceptions, that administrators of employee benefit plans furnish annually to each participant and certain beneficiaries a summary annual report (SAR) meeting the requirements of the statute and regulation. The regulation prescribes the content and format of the SAR and the timing of its delivery. The SAR provides current information about the plan and assists those who receive it in understanding the plan's current financial operation and condition. It also explains participants' and beneficiaries' rights to receive further information on these issues.

EBSA previously submitted the information collection provisions in the regulation at 29 CFR 2520.104b-10 to the Office of Management and Budget (OMB) for review in an information collection request (ICR). OMB approved the ICR under OMB Control No. 1210-0040. The ICR approval is scheduled to expire on July 31, 2009.

II. Desired Focus of Comments

The Department is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Evaluate whether and to what extent the proposed collection of information minimizes the burden of the collection of information on those who are to respond, including through the use of appropriate automated, electronic, mechanical, or other technological collection techniques or other forms of information technology, e.g., by permitting electronic submissions of responses.

III. Current Action

This notice requests comments on an extension of the information collections in the ERISA Summary Annual Report regulation. After considering comments received in response to this notice, the Department intends to submit the ICR to OMB for continuing approval. No change to the existing ICR is being proposed or made at this time. A summary of the ICR and the current burden estimates follows:

Type of Review: Extension of a currently approved collection of information.

Agency: Employee Benefits Security Administration, Department of Labor.

Title: ERISA Summary Annual Report Regulation.

OMB Number: 1210-0040.

Affected Public: Individuals or households; Business or other for-profit; Not-for-profit institutions.

Respondents: 749,000.

Responses: 228,686,000.

Estimated Total Burden Hours: 461,000.

Estimated Total Burden Cost (Operating and Maintenance): $134,161,000.

Comments submitted in response to this notice will be summarized and/or included in the request for OMB approval of the ICR and will also become a matter of public record.

Dated: March 23, 2009.
Joseph S. Piacentini,
Director, Office of Policy and Research, Employee Benefits Security Administration.

[FR Doc. E9-6837 Filed 3-26-09; 8:45 am]

BILLING CODE 4510-29-P